DEPARTMENT OF COMMERCE

Public Hearing on Section 232 National Security Investigation of Imports of Automobiles, Including Cars, SUVs, Vans and Light Trucks, and Automotive Parts; Change of Date for the Public Hearing

AGENCY: U.S. Department of Commerce.

ACTION: Change of date for public hearing.

SUMMARY: The Department of Commerce is cancelling one of the days of the two-day public hearing associated with the notice of request for public comments and public hearing that appeared in the Federal Register on May 30, 2018. In the notice, the Department encouraged interested public participants to participate in a hearing for the investigation assist the Department in determining whether imports of automobiles, including cars, SUVs, vans and light trucks, and automotive parts threaten to impair the national security and in recommending remedies if such a threat is found to exist. The hearing was originally scheduled for July 19 and 20. Only 45 requests to testify were received. Because these requests can all be accommodated on a single day, the second day of the hearing originally scheduled for July 20 is cancelled. The hearing will be held on July 19 only. The hearing will begin at 8:30 a.m. and will end at 5:30 p.m. The location of the hearing remains unchanged.

DATES: The public hearing will be held on July 19, 2018, beginning at 8:30 a.m. local time and concluding at 5:30 p.m. local time.

ADDRESSES: The public hearing will be held at 1401 Constitution Avenue NW, Washington DC, 20230.

FOR FURTHER INFORMATION CONTACT: Sahra Park-Su, U.S. Department of Commerce (202) 482-2811. For more information about the section 232 program, including the regulations and the text of previous investigations, see www.bis.doc.gov/232.

SUPPLEMENTARY INFORMATION: In the Federal Register of May 30, 2018, the Secretary of Commerce (“Secretary”) invited interested parties to submit written comments, data, analyses, or other information pertinent to the Department of Commerce's investigation under section 232 of the Trade Expansion Act of 1962, as amended (19 U.S.C. 1862), to determine the effects on the national security of imports of automobiles, including cars, SUVs, vans and light trucks, and automotive parts (83 FR 24735). In the notice, the Secretary also announced that the Department will be holding a public hearing on the investigation on July 19 and 20, 2018. Only 45 requests to testify were received. Because these requests can all be accommodated on a single day, the second day of the hearing originally scheduled for July 20, 2018 is cancelled.

The hearing will be held on July 19 only and will take place from 8:30 a.m.-5:30 p.m. The location of the hearing remains unchanged at the Department of Commerce, 1401 Constitution Avenue NW, Washington DC, 20230.

Procedures for Attending the Hearing

The hearing is open to the general public and seating is on a first-come-first served basis. We anticipate a high volume of interest and encourage all members of public wishing to attend, to arrive early and be prepared to go through a security screening. You must present a valid form of identification such as a driver's license, passport, or state issued ID.

The main entrance of the Department of Commerce is on 14th Street NW. between Pennsylvania Avenue and Constitution Avenue, across from the Ronald Reagan Building. Upon entering the building, please go through security and check in at the guard's desk. DOC staff will meet and escort visitors to the auditorium.

Non-U.S. Citizens Please Note: All foreign national visitors who do not have permanent resident status and who wish to attend the hearing must contact Autos232@doc.gov by 12 p.m., July 16. You will then be asked to provide additional information. Please also bring a copy of your passport on the day of the hearing to serve as identification. Failure to provide the requested information prior to arrival will result, at a minimum, in significant delays in entering the facility.

Dated: July 11, 2018.
Earl Comstock,
Director, Office of Policy and Strategic Planning, U.S. Department of Commerce.

[FR Doc. 2018-15193 Filed 7-12-18; 11:15 am]

BILLING CODE 3510-17-P